DEPARTMENT OF LABOR

Employment and Training Administration

[TA-W-62,819]

Robert Half Management Resources On-Site Leased Workers Employed at Atreum-Brighton, Brigthon, MI; Notice of Termination of Investigation

Pursuant to section 221 of the Trade Act of 1974, as amended, an investigation was initiated on February 8, 2008 in response to a worker petition filed by the Michigan TAA Coordinator on behalf of workers of Robert Half Management Resources working at Atreum-Brighton, Brighton, Michigan.

The petitioning group of workers is covered by an active certification, TA-W-62,396, amended on March 3, 2008. Consequently, further investigation in this case would serve no purpose, and the investigation has been terminated.

Signed at Washington, DC, this 3rd day of March 2008.
Richard Church,
Certifying Officer, Division of Trade Adjustment Assistance.

[FR Doc. E8-4662 Filed 3-10-08; 8:45 am]

BILLING CODE 4510-FN-P